ENVIRONMENTAL PROTECTION AGENCY

[FRL OP-OFA-165]

Environmental Impact Statements; Notice of Availability

Responsible Agency: Office of Federal Activities, General Information 202-564-5632 or https://www.epa.gov/nepa.

Weekly receipt of Environmental Impact Statements (EIS)

Filed February 3, 2025 10 a.m. EST

Through February 10, 2025 10 a.m. EST Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250020, Draft Supplement, FERC, LA, CP2 LNG and CP Express Pipeline Projects, Comment Period Ends: 03/31/2025, Contact: Office of External Affairs 866-208-3372.

EIS No. 20250021, Draft, BLM, NV, Spring Valley Mine Project, Comment Period Ends: 03/31/2025, Contact: Robert Sevon 775-623-1500.

Dated: February 10, 2025.
Nancy Abrams,
Associate Director, Office of Federal Activities.

[FR Doc. 2025-02714 Filed 2-13-25; 8:45 am]

BILLING CODE 6560-50-P